DEPARTMENT OF ENERGY

Energy Information Administration

Agency Information Collection Activities: Proposed Collection; Comment Request

AGENCY: Energy Information Administration, DOE.

ACTION: Agency Information Collection Activities: Proposed Collection; Comment Request.

SUMMARY: The Energy Information Administration (EIA) is soliciting comments on the proposed new Form EIA-905, “Monthly Natural Gas Biller Survey .”

DATES: Written comments must be submitted on or before September 18, 2000. If you anticipate difficulty in submitting comments within that period, contact the person listed below as soon as possible.

ADDRESSES: Send comments to Roy Kass, EI-44, Form EIA-905, Forrestal Building, U.S. Department of Energy, Washington, D.C. 20585. Alternatively, Roy Kass may be reached by phone at 202-586-4790, by e-mail nathaniel.kass@eia.doe.gov, or by FAX at 202-586-4420.

FOR FURTHER INFORMATION CONTACT: Requests for additional information or copies of the form and instructions should be directed to Roy Kass at the address listed above.

SUPPLEMENTARY INFORMATION:

I. Background

II. Current Actions

III. Request for Comments

I. Background

The Federal Energy Administration Act of 1974 (Pub. L. No. 93-275, 15 U.S.C. 761 et seq.) and the Department of Energy Organization Act (Pub. L. No. 95-91, 42 U.S.C. 7101 et seq.) require the Energy Information Administration (EIA) to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Section 3506(c) of the Paperwork Reduction Act of 1995.

EIA's coverage of prices paid for natural gas is declining as customers choose to purchase gas from alternative supplies rather than the traditional local distribution companies. The coverage of residential and commercial natural gas prices is expected to continue declining as the result of customer choice programs. Data requirements were established to assess the gas industry's performance. (See http://www.eia.doe.gov/oil_gas/natural_gas/ng2/ng2main.html for more information on the data requirements.) The data requirements were developed with careful consideration of the public policy and economic issues through a series of focus groups conducted by EIA with representatives from the natural gas industry, state and Federal government representatives, and others.

II. Current Actions

The proposed survey will collect monthly billing data, specifically the volume of natural gas sold and distributed (in therms), heat content (in Btu per cubic feet), and price components of natural gas (including commodity, taxes, distribution, and other charges), and number of customers by sector (residential and commercial).

The data will be collected from local distribution companies, marketers, and billing agents that bill for natural gas sold and/or delivered in deregulated states. The data will be incorporated and used in EIA's monthly and annual natural gas publications. The data will also be used in EIA's modeling and analytic efforts, and to answer questions from Federal policy makers, Congress and the general public.

Submission of the data will be mandatory under Section 13(b) of the Federal Energy Administration Act of 1974 (FEA Act) (Pubic Law 93-275), as amended. The information collected on this questionnaire will be kept confidential and not disclosed to the public to the extent that it satisfies the criteria for exemption under the Freedom of Information Act.

EIA will begin cognitive testing of 20 respondents and field testing of over 200 LDCs and marketers in select states in August 2000. Information from respondents acquired through pretesting will be considered in the development of the collection instrument.

III. Request for Comments

Prospective respondents and other interested parties should comment on the actions discussed in item II. The following are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the instructions and definitions clear and sufficient? If not, which instructions need clarification?

B. Can the information be submitted by the due date?

C. Public reporting burden for this collection is estimated to average 6 hours per response. The estimated burden includes the total time, effort, or financial resources expended to generate, maintain, retain, disclose and provide the information. In your opinion, how accurate is this estimate?

D. The agency estimates that the only costs to the respondents are for the time it will take them to complete the collection. Will respondents incur start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the method(s) of collection.

As a Potential User

A. Is the information useful at the levels of detail indicated on the form?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3506(c) of the Paperwork Reduction Act of 1995 (Pub. L. No. 104-13, 44 U.S.C. Chapter 35).

Issued in Washington, D.C. July 11, 2000.
Jay H. Casselberry,
Agency Clearance Officer, Statistics and Methods Group, Energy Information Administration.

[FR Doc. 00-18086 Filed 7-17-00; 8:45 am]

BILLING CODE 6450-01-P